OFFICE OF PERSONNEL MANAGEMENT

Submission for OMB Review; Comment Request for Reinstatement of an Information Collection: OF-311

AGENCY: Office of Personnel Management.

ACTION: Notice.

SUMMARY: In accordance with the Paperwork Reduction Act of 1995 (Pub. Law 104-13, May 22, 1995), this notice announces that the Office of Personnel Management (OPM) has submitted to the Office of Management and Budget a request for reinstatement of an information collection, the voluntary Application for Federal Employee Commercial Garnishment (OF-311). The application may be completed by the creditors of Federal employees. The application facilitates the processing of a wide variety of commercial garnishment orders issued by various State and local jurisdictions. The application provides information about commercial garnishment orders and facilitates the processing of commercial garnishments by Federal agencies in a uniform manner that otherwise would not be possible.

OPM did not receive any comments as a result of the 60-Day Notice.

OPM anticipates that approximately 100 Forms OF-311 will be completed annually for OPM employees and that each form takes approximately 10 minutes to complete. The annual estimated burden is 17 hours or less. OPM anticipates, however, that many other Federal agencies will suggest that creditors complete the Form OF-311.

For copies of this proposal, contact Mary Beth Smith-Toomey on (202) 606-8358, E-mail to mbtoomey@opm.gov, or by FAX at 202-418-3251. Please include a mailing address with your request.

DATES: Comments on this proposal should be received on or before May 20, 2002.

ADDRESSES: Send or deliver comments to:

James S. Green, Associate General Counsel, Office of General Counsel, U.S. Office of Personnel Management, 1900 E Street, NW., Room 7553, Washington, DC 20415

and

Joseph Lackey, OPM Desk Officer, Office of Information and Regulatory Affairs, Office of Management and Budget, New Executive Office Building, NW., Room 10235, Washington, DC 20503.

FOR FURTHER INFORMATION REGARDING ADMINISTRATIVE COORDINATION CONTACT: Jill Gerstenfield, Attorney, Office of the General Counsel, (202) 606-1700.

Office of Personnel Management.
Kay Coles James,
Director.

[FR Doc. 02-9365 Filed 4-17-02; 8:45 am]

BILLING CODE 6325-48-M